DEPARTMENT OF TRANSPORTATION

Federal Aviation Administration

Air Traffic Procedures Advisory Committee

AGENCY: Federal Aviation Administration (FAA), DOT.

SUMMARY: The FAA is issuing this notice to advise the public that a new charter has been issued for the Federal Aviation Administration Air Traffic Procedures Advisory Committee (ATPAC). The duties of this advisory committee include:

1. To make recommendations for standardizing, clarifying, and upgrading terminology and procedures, as a result of its review of present ATC procedures and practices.

2. To provide advice and make recommendations concerning:

a. New or significantly revised ATC procedural concepts.

b. The adequacy of charts, diagrams, and illustrations used to convey information concerning the application of ATC procedures and their relevance to current, revised, or proposed ATC procedures and concepts.

c. Aviation regulations that have an impact on present, new, or significantly revised ATC procedures and concepts.

3. To act solely in an advisory capacity to accomplish its duties.

DATES: Effective October 29, 2010.

FOR FURTHER INFORMATION CONTACT: Elizabeth Ray, ATPAC Executive Director, 800 Independence Avenue, SW., Washington, DC 20591. Telephone (202) 267-9205.

SUPPLEMENTARY INFORMATION: Pursuant to Section 9(c) of the Federal Advisory Committee Act (Pub. L. 92-463; 5 U.S.C. App. 2), notice is hereby given of the filing of the ATPAC Charter, Effective October 29, 2010.

Issued in Washington, DC, on October 29, 2010.
Elizabeth Ray,
Executive Director, Air Traffic Procedures Advisory Committee.

[FR Doc. 2010-27832 Filed 11-3-10; 8:45 am]

BILLING CODE 4910-13-P